DEPARTMENT OF LABOR

Employment and Training Administration

[TA-W-56,465]

Inmed Corporation, d/b/a Rusch, Including On-Site Leased Workers of Axiom and Partners in Staffing, Duluth, GA; Notice of Termination of Investigation

Pursuant to Section 221 of the Trade Act of 1974, as amended, an investigation was initiated on February 2, 2005 in response to a petition filed on behalf of workers of Inmed Corporation, d/b/a Rusch, Duluth, Georgia.

The subject firm also leased some workers from Axiom and Partners in Staffing.

The petitioning group of workers is covered by an active certification issued on October 20, 2004 and which remains in effect (TA-W-55,756). Consequently, further investigation in this case would serve no purpose, and the investigation has been terminated.

Signed at Washington, DC this 3rd day of February, 2005.
Richard Church,
Certifying Officer, Division of Trade Adjustment Assistance.

[FR Doc. E5-1114 Filed 3-14-05; 8:45 am]

BILLING CODE 4510-30-P